DEPARTMENT OF TRANSPORTATION

Federal Aviation Administration

14 CFR Part 39

[Docket No. FAA-2013-1073; Directorate Identifier 2012-NM-039-AD]

RIN 2120-AA64

Airworthiness Directives; Airplanes Originally Manufactured by Lockheed for the Military as P-3A and P3A Airplanes

AGENCY: Federal Aviation Administration (FAA), DOT.

ACTION: Notice of proposed rulemaking (NPRM).

SUMMARY: We propose to adopt a new airworthiness directive (AD) for certain airplanes, originally manufactured by Lockheed Martin Aeronautics Company for the military as P-3A or P3A airplanes. This proposed AD was prompted by a determination that the existing maintenance program must be revised to address fatigue cracking of the airplane. This proposed AD would require revising the maintenance or inspection program, as applicable, to incorporate certain limitations. We are proposing this AD to detect and correct fatigue cracking, which could result in reduced structural integrity of the airplane.

DATES: We must receive comments on this proposed AD by March 7, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Avenger Aircraft and Services, 103 N. Main Street, Suite 106, Greenville, SC 29601-4833; telephone: (864) 232-8073; fax: (864) 232-8074; email: AAS@AvengerAircraft.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2013-1073; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: George Garrido, Aerospace Engineer, Airframe Branch, ANM-120L, FAA, Los Angeles Aircraft Certification Office, 3960 Paramount Boulevard, Lakewood, CA 90712-4137; phone: (562) 627-5357; fax: (562) 627-5210; email: george.garrido@faa.gov.

SUPPLEMENTARY INFORMATION:

Comments Invited

We invite you to send any written relevant data, views, or arguments about this proposal. Send your comments to an address listed under the ADDRESSES section. Include “Docket No. FAA-2013-1073; Directorate Identifier 2012-NM-039-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We reviewed accident investigation reports involving other restricted category firefighting airplanes, specifically Model C-130 and P2V airplanes. Previous accident investigations for these other firefighting airplanes revealed that the existing maintenance programs for airplanes operating under restricted category type certificate data sheets (TCDS) are not adequate to maintain the aircraft for continued safe operation. Therefore, we have determined that it is necessary to incorporate an airworthiness limitation section based on damage tolerance into the Model P-3A airplane maintenance program to ensure continue safe operation in a restricted category. The adverse loading spectrum for the restricted category firefighting airplanes could result in fatigue cracking, which could result in reduced structural integrity of the airplane.

The initial Model P-3A inspection program was based on the navy usage (or baseline usage) as defined by the U.S. Navy. The new airworthiness limitations addressed in this proposed AD are separated into baseline usage and usage that includes aerial dispensing of liquids. For airplanes with combined baseline and aerial dispersion usage accumulated, the operator must determine the total remaining life and the total remaining hours or flights until inspection is due for the principle structural element (PSE) inspection requirements by combining the fatigue damage accumulated during the baseline and the aerial dispersion of liquids usage.

Relevant Service Information

We reviewed Avenger Aircraft and Services P3A Airworthiness Limitations Section—FAA TCDS A32NM & TCDS T00006LA, Forest and Wildlife Conservation Usage (Includes Aerial Dispensing of Liquids), AAS-ALS-07-001, Revision D, dated August 2, 2010, which describes airworthiness limitations that include structural inspection requirements.

FAA's Determination

We are proposing this AD because we evaluated all the relevant information and determined the unsafe condition described previously is likely to exist or develop in other products of the same type design.

Proposed AD Requirements

For Model P3A and P-3A airplanes, this proposed AD would require revising the maintenance or inspection program, as applicable, to incorporate airworthiness limitations of Avenger Aircraft and Services P3A Airworthiness Limitations Section—FAA TCDS A32NM & TCDS T00006LA, Forest and Wildlife Conservation Usage (Includes Aerial Dispensing of Liquids), AAS-ALS-07-001, Revision D, dated August 2, 2010.

This proposed AD requires revisions to certain operator maintenance documents to include new actions (e.g., inspections). Compliance with these actions is required by 14 CFR 91.403(c). For airplanes that have been previously modified, altered, or repaired in the areas addressed by this proposed AD, the operator may not be able to accomplish the actions described in the revisions. In this situation, to comply with 14 CFR 91.403(c), the operator must request approval for an alternative method of compliance according to the requirements of paragraph (j) of this proposed AD. The request should include a description of changes to the required actions that will ensure the continued damage tolerance of the affected structure.

Costs of Compliance

We estimate that this proposed AD affects 8 airplanes of U.S. registry.

We estimate the following costs to comply with this proposed AD:

Estimated Costs
Action | Labor cost | Parts cost | Cost per product | Cost on U.S. operators
Revise the maintenance or inspection program | 1 work-hour × $85 per hour = $85 | $0 | $85 | $680

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Lockheed (Original Manufacturer): Docket No. FAA-2013-1073; Directorate Identifier 2012-NM-039-AD.

(a) Comments Due Date

We must receive comments by March 7, 2014.

(b) Affected ADs

None.

(c) Applicability

This AD applies to all P-3A or P3A airplanes, originally manufactured by Lockheed Martin Aeronautics Company for the military, identified in paragraphs (c)(1) and (c)(2) of this AD, certificated in any category:

(1) Aero Union Corporation Model P3A airplanes; and

(2) USDA Forest Service Model P-3A airplanes.

(d) Subject

Air Transport Association (ATA) of America Code 55, Stabilizers; 57, Wings.

(e) Unsafe Condition

This AD was prompted by a determination that the existing maintenance or inspection program must be revised to address fatigue cracking of the airplane. We are issuing this AD to detect and correct fatigue cracking, which could result in reduced structural integrity of the airplane.

(f) Compliance

Comply with this AD within the compliance times specified, unless already done.

(g) Maintenance Program Revision

Within 12 months after the effective date of this AD, revise the maintenance or inspection program, as applicable, by incorporating airworthiness limitations specified in Avenger Aircraft and Services P3A Airworthiness Limitations Section—FAA TCDS A32NM & TCDS T00006LA, Forest and Wildlife Conservation Usage (Includes Aerial Dispensing of Liquids), AAS-ALS-07-001, Revision D, dated August 2, 2010.

(h) Compliance Times for Modifications, Replacements, and Inspections

For the tasks specified in Part-I, Sections B. through E., of Procedure 01-00-005, of Avenger Aircraft and Services P3A Airworthiness Limitations Section—FAA TCDS A32NM & TCDS T00006LA, Forest and Wildlife Conservation Usage (Includes Aerial Dispensing of Liquids), AAS-ALS-07-001, Revision D, dated August 2, 2010, the compliance times are specified in paragraphs (h)(i) through (h)(iv) of this AD. For airplanes with combined baseline and aerial dispensing usage accumulated, the total remaining life and the total remaining hours or flights until inspection is due for the principle structural element (PSE) inspection requirements is determined by combining the fatigue damage accumulated during the baseline and the aerial dispensing of liquids usage. The usage must be combined in accordance with a method approved by the Manager, Los Angeles Aircraft Certification Office (ACO), FAA.

(i) For the baseline life limits, the compliance time is: At the applicable “flight hours” or “flights,” whichever occurs first, specified in Part-I, Section B, “Life Limitations Baseline Usage,” of Procedure 01-00-005, of Avenger Aircraft and Services P3A Airworthiness Limitations Section—FAA TCDS A32NM & TCDS T00006LA, Forest and Wildlife Conservation Usage (Includes Aerial Dispensing of Liquids), AAS-ALS-07-001, Revision D, dated August 2, 2010; or within 12 months after the effective date of this AD; whichever occurs later.

(ii) For the baseline principle structural limits (PSE) inspection requirements, the compliance time is: At the applicable “threshold interval hours” or “threshold interval flights” since new, whichever occurs first, as specified in Tables C.1, C.2, and C.3, of Part-I, Section C, “Principle Structural Element Inspection Requirements—Baseline Usage,” of Procedure 01-00-005, of Avenger Aircraft and Services P3A Airworthiness Limitations Section—FAA TCDS A32NM & TCDS T00006LA, Forest and Wildlife Conservation Usage (Includes Aerial Dispensing of Liquids), AAS-ALS-07-001, Revision D, dated August 2, 2010; or within 12 months after the effective date of this AD; whichever occurs later. Where compliance times are specified as “threshold interval hours,” those compliance times are total flight hours. Where the compliance times are specified as “threshold interval flights,” those compliance times are total flight cycles.

(iii) For the aerial dispensing of liquids life limits, the compliance time is: At the applicable “flight hours” or “flights,” whichever occurs first, specified in Part-I, Section D, “Life Limitations—Aerial Dispensing of Liquids Usage” of Procedure 01-00-005, of Avenger Aircraft and Services P3A Airworthiness Limitations Section—FAA TCDS A32NM & TCDS T00006LA, Forest and Wildlife Conservation Usage (Includes Aerial Dispensing of Liquids), AAS-ALS-07-001, Revision D, dated August 2, 2010; or within 12 months after the effective date of this AD; whichever occurs later.

(iv) For the aerial dispensing of liquids PSE inspection requirements, the compliance time is: At the applicable “threshold interval hours” or threshold interval flights,” whichever occurs first, as specified in Tables E.1, E2, and E.3, of Part-I, Section E, “Principle Structural Element Inspection Requirements—Aerial Dispensing of Liquids Usage,” of Procedure 01-00-005, of Avenger Aircraft and Services P3A Airworthiness Limitations Section—FAA TCDS A32NM & TCDS T00006LA, Forest and Wildlife Conservation Usage (Includes Aerial Dispensing of Liquids), AAS-ALS-07-001, Revision D, dated August 2, 2010; or within 12 months after the effective date of this AD; whichever occurs later.

(i) No Alternative Actions, Intervals, and/or Critical Design Configuration Control Limitations

After accomplishing the revision required by paragraph (g) of this AD, no alternative actions (e.g., inspections), and/or intervals may be used unless the actions, and intervals are approved as an AMOC in accordance with the procedures specified in paragraph (j) of this AD.

(j) Alternative Methods of Compliance (AMOCs)

(1) The Manager, Los Angeles ACO, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k) of this AD.

(2) Before using any approved AMOC, notify your appropriate principal inspector, or lacking a principal inspector, the manager of the local flight standards district office/certificate holding district office.

(k) Related Information

(1) For more information about this AD, contact George Garrido, Aerospace Engineer, Airframe Branch, ANM-120L, FAA, Los Angeles Aircraft Certification Office, 3960 Paramount Boulevard, Lakewood, CA 90712-4137; phone: (562) 627-5357; fax: (562) 627-5210; email: george.garrido@faa.gov.

(2) For service information identified in this AD, contact Avenger Aircraft and Services, 103 N. Main Street, Suite 106, Greenville, SC 29601-4833; telephone: (864) 232-8073; fax: (864) 232-8074; email: AAS@AvengerAircraft.com. You may view this referenced service information at the FAA, Transport Airplane Directorate, 1601 Lind Avenue SW., Renton, Washington. For information on the availability of this material at the FAA, call 425-227-1221.

Issued in Renton, Washington, on January 9, 2014.
Jeffrey E. Duven,
Manager, Transport Airplane Directorate, Aircraft Certification Service.

[FR Doc. 2014-01010 Filed 1-17-14; 8:45 am]

BILLING CODE 4910-13-P